ENVIRONMENTAL PROTECTION AGENCY

[ER-FRL-6613-7]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 567-7167.

An explanation of the ratings assigned to draft environmental impact statements (EISs) was published in FR dated April 14, 2000 (65 FR 20157).

Draft EISs

ERP No. D-AFS-J65326-MT Rating EC2, Ashland Post-Fire Project, Proposal to Implement Restoration Activities to Maintain Watershed, Custer National Forest, Powder River and Rosebud Counties, MT.

Summary: EPA expressed concern regarding sediment production water quality impacts and aquatic monitoring. EPA recommended optimal balancing of environmental and resource trade-offs by developing a modified preferred alternative that reduces sediment production. ERP No. D-BLM-B65022-MA Rating LO, New Bedford Whaling National Historical Park, General Management Plan, Implementation, Bristol County, MA.

Summary: EPA had no objections to the project. ERP No. D-BLM-J67030-UT Rating EC2, 3R Minerals Coal Bed Canyon Mine Plan, Approval, Grand Staircase-Escalante National Monument, Garfield County, UT.

Summary: EPA expressed concern regarding potential impacts due to future expansion of this titanium and zirconium mineral resource. EPA requested additional information about the economic viability.

ERP No. DA-JUS-G11010-00 Rating LO, PROGRAMMATIC—Revised Draft Supplemental EIS US Naturalization Service (INS) and US Joint Task Force-Six (JTF-6) Activities Along the US/Mexico Border from Brownsville Texas to San Diego, California.

Summary: EPA expressed no concerns regarding the revised document.

Final EISs

ERP No. F-AFS-J67028-MT, Rocky Mountain Front Mineral Withdrawal, Implementation, Helena and Lewis and Clark National Forests, Great Falls, MT.

Summary: ERP No. F-AFS-L65336-ID, Brown Creek Timber Sale Project, Implementation, Payette National Forest, New Meadow Ranger District, Adam County, ID.

Summary: No formal comment letter was sent to the preparing agency.

ERP No. F-BOP-K80041-CA

Lassen County Federal Correctional Institution (FCI), Construction and Operation, To House Median-Security Inmates and Federal Prison Camp, Possible Site is Southwest Site, Lassen County, CA.

Summary: No formal comment letter was sent to the preparing agency.

ERP No. F-COE-E36178-00

Wolf River Ecosystem Restoration, Memphis, Tennessee Feasibility Study, Marshall, Benton and Tippah Counties, MS and Shelby, Fayette and Harderman, TN.

Summary: Structural measures of the proposed action will significantly improve fish and wildlife habitat in the watershed. Therefore, EPA has no objection to the proposed action.

Dated: December 12, 2000.
Joseph C. Montgomery,
Director, NEPA Compliance Division, Office of Federal Activities.

[FR Doc. 00-32045 Filed 12-14-00; 8:45 am]

BILLING CODE 6560-50-U